DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR Part 236 as detailed below.

Docket No. FRA-2004-17995

Applicants

Twin Cities & Western Railroad Company, Mr. W.F. Drusch, President and CEO, 2925-12th Street East, Glencoe, Minnesota 55336.

Burlington Northern Santa Fe Railway, Mr. Curtis J. Froscheiser, Superintendent Operations, Twin Cities Division, P.O. Box 1177, Willmar, Minnesota 56201.

The Twin Cities & Western Railroad Company (TCWR) and Burlington Northern Santa Fe Railway (BNSF) jointly seek approval of the proposed discontinuance and removal of the automatic interlocking at Appleton, Minnesota, where the single main track of the TCWR at milepost 578.2, crosses at grade the single main track of the BNSF, Twin Cities Division, Watertown Subdivision, at milepost 21.8. The proposed changes include removal of the interlocked signals and installation of a manually-operated, swing gate, normally lined for BNSF movements.

The reason given for the proposed changes is that reduced traffic patterns do not justify the high cost to maintain the aging signal system.

Any interested party desiring to protest the granting of an application shall set forth specifically the grounds upon which the protest is made, and include a concise statement of the interest of the party in the proceeding. Additionally, one copy of the protest shall be furnished to the applicant at the address listed above.

All communications concerning this proceeding should be identified by the docket number and must be submitted to the Docket Clerk, DOT Central Docket Management Facility, Room PL-401 (Plaza Level), 400 7th Street, SW., Washington, DC 20590-0001.

Communications received within 45 days of the date of this notice will be considered by the FRA before final action is taken. Comments received after that date will be considered as far as practicable. All written communications concerning these proceedings are available for examination during regular business hours (9 a.m.-5 p.m.) at the above facility. All documents in the public docket are also available for inspection and copying on the internet at the docket facility's Web site at http://dms.dot.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FRA expects to be able to determine these matters without an oral hearing. However, if a specific request for an oral hearing is accompanied by a showing that the party is unable to adequately present his or her position by written statements, an application may be set for public hearing.

Issued in Washington, DC, on July 7, 2004.
Grady C. Cothen, Jr.,
Acting Associate Administrator for Safety.

[FR Doc. 04-16253 Filed 7-16-04; 8:45 am]

BILLING CODE 4910-06-P